OFFICE OF PERSONNEL MANAGEMENT

Proposed Collection: Comment Request for Expiring Information Collection; Forms INV 41, 42, 43 and 44

AGENCY: Office of Personnel Management.

ACTION: Notice.

SUMMARY: In accordance with the Paperwork Reduction Act of 1995 (Pub. L. 104-13, May 22, 1995), this notice announces that the Office of Personnel Management (OPM) intends to submit to the Office of Management and Budget a request for reclearance of currently approved information collection forms INV 41, 42, 43 and 44. OPM uses these forms to request information by mail for use in OPM investigations. These investigations are conducted to determine suitability for Federal employment or the ability to hold a security clearance as prescribed in Executive Orders 10450, 12968, 10577 (5 CFR part V), and 5 U.S.C. 3301. INV Form 41, Investigative Request for Employment Data and Supervisor Information, is sent to employers and supervisors. INV Form 42, Investigative Request for Personal Information, is sent to references. INV Form 43, Investigative Request for Educational Registrar and Dean of Students Record Data, is sent to educational institutions. INV Form 44, Investigative Request for Law Enforcement Data, is sent to local law enforcement agencies.

Comments are particularly invited on:

—Whether this information is necessary for the proper performance of the functions of OPM, and whether it will have practical utility;

—Whether our estimate of the public burden of this collection of information is accurate, and based on valid assumptions and methodology; and

—Ways in which we can minimize the burden of the collection of information on those who are to respond, through the use of appropriate technological collection techniques or other forms of information technology.

Based on current usage, OPM estimates that 1,962,947 individuals will respond annually to the forms (1,037,947 to INV Form 41; 218,629 to INV Form 42; 165,314 to INV Form 43; and 541,057 to INV Form 44). We believe the forms require an average of 5 minutes to complete. The total estimated public burden is 163,579 hours.

To obtain copies of this proposal, contact Mary Beth Smith-Toomey on (202) 606-2150, FAX: (202) 418-3251 or by E-mail: mbtoomey@opm.gov. Please include your mailing address with your request.

DATES: Comments on this proposal should be received or or before October 5, 2001.

ADDRESSES: Send or deliver written comments to: Richard A. Ferris, Associate Director, Investigations Service, U.S. Office of Personnel Management, 1900 E Street, NW., Room 5416, Washington, DC 20415-4000.

FOR FURTHER INFORMATION CONTACT: Rasheedah I. Ahmad, Voice: (202) 606-7983, FAX: (202) 606-2390, E-mail: riahmad@opm.gov.

Office of Personnel Management.
Kay Coles James,
Director.

[FR Doc. 01-19552 Filed 8-3-01; 8:45 am]

BILLING CODE 6325-40-P